DEPARTMENT OF EDUCATION

Arbitration Panel Decisions Under the Randolph-Sheppard Act

AGENCY: Office of Special Education and Rehabilitative Services, Department of Education.

ACTION: Notice.

SUMMARY: This notice lists arbitration panel decisions under the Randolph-Sheppard Act that the Department of Education (Department) has made publicly available in accessible electronic format during the second quarter of calendar year 2024. All decisions are available on the Department's website and by request.

FOR FURTHER INFORMATION CONTACT: James McCarthy, U.S. Department of Education, 400 Maryland Avenue SW, Room 4A212, Washington, DC 20202-2800. Telephone: (202) 245-6458. Email: james.mccarthy@ed.gov.

If you are deaf, hard of hearing, or have a speech disability and wish to access telecommunications relay services, please dial 7-1-1.

SUPPLEMENTARY INFORMATION: For the purpose of providing individuals who are blind with remunerative employment, enlarging their economic opportunities, and stimulating greater efforts to make themselves self-supporting, the Randolph-Sheppard Act, 20 U.S.C. 107 et seq. (Act), authorizes individuals who are blind to operate vending facilities on Federal property and provides them with a priority for doing so. The vending facilities include, among other things, cafeterias, snack bars, and automatic vending machines. The Department administers the Act and designates an agency in each participating State—the State licensing agency (SLA)—to license individuals who are blind to operate vending facilities on Federal and other property in the State.

The Act provides for arbitration of disputes between SLAs and vendors who are blind and between SLAs and Federal agencies before three-person panels, convened by the Department, whose decisions constitute final agency action. 20 U.S.C. 107d-1. The Act also makes these decisions matters of public record and requires their publication in the Federal Register. 20 U.S.C. 107d-2(c).

The Department publishes lists of Randolph-Sheppard Act arbitration panel decisions in the Federal Register. The full texts of the decisions listed are available on the Department's website (see below) or by request (see 82 FR 41941 (Sept. 5, 2017)). Older, archived decisions are also added to the Department's website as they are digitized.

During the first and second quarters of 2024, the Department received four new decisions issued by Randolph-Sheppard arbitration panels that were made publicly available during the second quarter of 2024. The following table lists these four decisions from most recent to oldest based on their decision dates.

Case name | Docket No. | Date | State
Arizona Department of Economic Security v. United States Department of the Army, Fort Huachuca | R-S/23-05 | 6/17/2024 | Arizona.
Benson v. Georgia Vocational Rehabilitation Agency | R-S/23-01 | 6/14/2024 | Georgia.
Cyrus v. Opportunities for Ohioans with Disabilities | R-S/21-03 and R-S/16-06 | 3/25/2024 | Ohio.
Gilbert v. Business Enterprise Program, Bureau of Blindness and Visual Services, Office of Labor and Industry, Commonwealth of Pennsylvania | R-S/18-16 | 1/31/2024 | Pennsylvania.

These decisions and other decisions that we already posted are searchable by key terms, accessible under Section 508 of the Rehabilitation Act, and available in Portable Document Format (PDF) on the Department's website at https://rsa.ed.gov/about/programs/randolph-sheppard-vending-facility-program/decisions-of-arbitration-panels or by request to the person listed under FOR FURTHER INFORMATION CONTACT.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or PDF. To use PDF, you must have Adobe Acrobat Reader, which is available free at the site.

You may also access Department documents published in the Federal Register by using the article search feature at www.federalregister.gov. Specifically, through the advanced search feature at this site, you can limit your search to documents published by the Department.

Glenna Wright-Gallo,
Assistant Secretary for Special Education and Rehabilitative Services.

[FR Doc. 2024-24429 Filed 10-21-24; 8:45 am]

BILLING CODE 4000-01-P